DEPARTMENT OF HEALTH AND HUMAN SERVICES

Health Resources and Services Administration

Agency Information Collection Activities: Submission to OMB for Review and Approval; Public Comment Request; The National Health Service Corps and Nurse Corps Interest Capture Form—OMB No. 0915-0337—Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than January 15, 2026.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 443-3983.

SUPPLEMENTARY INFORMATION:

Information Collection Request Title: The National Health Service Corps and Nurse Corps Interest Capture Form OMB No. 0915-0337—Revision.

Abstract: HRSA's National Health Service Corps (NHSC) and the Nurse Corps Scholarship and Loan Repayment Programs are committed to improving the health of the nation's underserved by uniting communities in need with caring health professionals and by supporting communities' efforts to build better systems of care. The NHSC and Nurse Corps Interest Capture Form, which can be accessed on the HRSA website at https://bhw.hrsa.gov/about-us/ask-question, is an optional form that a health profession student, licensed clinician, faculty member, clinical site administrator, or other interested individual can complete and submit to HRSA online. The purpose of the form is to enable individuals and clinical sites to ask questions about the NHSC and/or Nurse Corps Scholarship and Loan Repayment Programs, and to provide their contact information so that HRSA may provide them with periodic program updates and other general information via email. Completed forms will contain information such as the names and roles of the individual(s), their phone number(s) and email address(es), and the HRSA program(s) in which they are interested or about which they have questions. The revisions in this ICR include an increase in the annualized information collection burden due to a higher number of respondents.

A 60-day notice published in the Federal Register on July 30, 2025, vol. 90, No. 144. 35914-15. There were no public comments.

Need and Proposed Use of the Information: The need and purpose of this information collection is to share resources and information regarding the NHSC and Nurse Corps Scholarship and Loan Repayment Programs with interested HRSA website (https://www.hrsa.gov/) visitors.

Likely Respondents: Health profession students, licensed clinicians, faculty members, clinical site administrators or other individuals who are interested in learning more or have questions about NHSC and Nurse Corps Scholarship and Loan Repayment Programs.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form Name | Number of respondents | Number of responses per respondent | Total responses | Average burden per response (in hours) | Total burden hours *
NHSC and Nurse Corps Interest Capture Form | 17,676 | 1 | 17,676 | 0.025 | 442
Total | 17,676 |  | 17,676 |  | 442
* Total Burden Hours are rounded up to the nearest whole number.

Maria G. Button,
Director, Executive Secretariat.

[FR Doc. 2025-22930 Filed 12-15-25; 8:45 am]

BILLING CODE 4165-15-P